DEPARTMENT OF ENERGY

Federal Energy Regulatory Commission

[Docket No. EC03-51-000, et al.]

Lake Benton Power Partners LLC, et al. Electric Rate and Corporate Filings

February 11, 2003.

The following filings have been made with the Commission. The filings are listed in ascending order within each docket classification.

1. Lake Benton Power Partners LLC, Storm Lake Power Partners II LLC and RP Wind LBI LLC RP Wind SLII LLC

[Docket Nos. EC03-51-000, ER97-2904-005, and ER99-1228-003]

Take notice that on February 5, 2003, RP Wind LBI LLC (LBI) and RP Wind SLII LLC (SLII), Lake Benton Power Partners LLC (Lake Benton), and Storm Lake II Power Partners LLC (Storm Lake), and together with Lake Benton, LBI, and SLII, the (Applicants), filed with the Federal Energy Regulatory Commission (Commission) an application pursuant to Section 203 of the Federal Power Act seeking authorization for LBI and SLII to acquire managing member interests in Lake Benton and Storm Lake, respectively. In addition, Lake Benton and Storm Lake gave notice of the change in status that will result from the transaction described in the application.

Comment Date: February 26, 2003.

2. Ameren Energy Generating Company and Union Electric Company d/b/a AmerenUE

[Docket No. EC03-53-000]

Take notice that on February 5, 2003, Ameren Energy Generating Company (AEG) and Union Electric Company d/b/a AmerenUE (collectively, AEG and AmerenUE are referred to as Applicants) submitted an application pursuant to section 203 of the Federal Power Act, and part 33 of the Federal Energy Regulatory Commission (Commission or FERC) regulations, 18 CFR part 33, for authorization for AEG to sell and transfer, and for AmerenUE to purchase and acquire, certain transmission facilities currently owned by AEG that are used to interconnect AEG's Kinmundy, Illinois and Pinckneyville, Illinois generation facilities to the Ameren transmission system. This transaction also involves the sale and transfer of the Kinmundy and Pinckneyville generation facilities now owned by AEG to AmerenUE.

Applicants state that copies of this filing have been served on all affected state commissions.

Comment Date: February 26, 2003.

3. Citizens Communications Company, Tucson Electric Power Company, and UniSource Energy Corporation

[Docket No. EC03-54-000]

Take notice that on February 7, 2003, Citizens Communications Company, Tucson Electric Power Company, and UniSource Energy Corporation filed with the Federal Energy Regulatory Commission (Commission) a Joint Application for the Disposition of Jurisdictional Facilities Under Section 203 of the Federal Power Act.

As further described in the Application, Citizens proposes to sell, and UniSource Energy proposes to acquire, the operating electric and gas utility properties of Citizens that are located in Arizona. Applicants request that the Commission find that the transaction is consistent with the public interest and approve the transaction pursuant to Section 203 of the Federal Power Act, 16 U.S.C. § 824b (2000). Applicants request approval of the Transaction by no later than May 30, 2003, to permit closing of the proposed transaction as soon as possible thereafter.

Comment Date: February 28, 2003.

4. The Premcor Refining Group Inc.

Williams Generating Memphis, L.L.C.

[Docket Nos. EC03-55-000 and ER02-2421-001]

Take notice that on February 7, 2003, The Premcor Refining Group Inc. (Premcor) and Williams Generating Memphis, L.L.C. (Williams Generating) tendered for filing with the Federal Energy Regulatory Commission (Commission), pursuant to Section 203 of the Federal Power Act, 16 U.S.C. § 824b (2000), and part 33 of the Commission's regulations, 18 CFR part 33, a joint application for authorization to dispose of certain jurisdictional facilities in connection with the purchase of the Williams Generating refinery by Premcor.

Comment Date: February 27, 2003.

5. Sussex Rural Electric Cooperative

[Docket No. EL03-49-000]

Take notice that on January 27, 2003., Sussex Rural Electric Cooperative (Sussex) filed with the Federal Energy Regulatory Commission (Commission) a request for waiver of the requirements of Order No. 888 and Order No. 889 pursuant to 18 CFR 35.28(d) of the Commission's regulations. Sussex also requests waiver of 18 CFR 35.28(d)(ii)'s 60-day notice requirement. Sussex's filing is available for public inspection at its offices in Sussex, New Jersey.

Comment Date: February 26, 2003.

6. Mountain View Power Partners, LLC

[Docket No. ER01-751-003]

Take notice that on February 7, 2003, Mountain View Power Partners, LLC (Mountain View) filed with the Federal Energy Regulatory Commission (Commission) an amended market-based rate tariff and a code of conduct to reflect a change in upstream ownership, in compliance with the Commission's delegated letter order on January 24, 2003, as amended by the errata issued on January 30, 2003 in the above-referenced proceeding.

Mountain View requests that the Commission make the amended tariff effective as of January 31, 2003.

Comment Date: February 28, 2003.

7. Quonset Point Cogen, L.P.

[Docket No. ER02-2607-000]

Take notice that on February 10, 2003, Quonset Point Cogen, L.P., requests to withdraw its Application for Market-Based Rates, Request for Expedited Consideration, and Requests for Notice Waiver and Blanket Authority filed on September 27, 2002.

Comment Date: March 3, 2003.

8. Quonset Point Cogen, L.P.

[Docket No. ER03-6-000 ER03-6-001]

Take notice that on February 7, 2003, Quonset Point Cogen, L.P. and PSEG Energy Technologies Inc. (Applicants) filed with the Federal Energy Regulatory Commission (Commission) a request to withdraw a Thermal and Electric Energy Purchase Agreement filed on October 2, 2002 in this docket. Applicants are requesting that this Agreement no longer be reviewed for approval by the Commission.

Comment Date: February 28, 2003.

9. Sithe/Independence Power Partners, L.P.

[Docket No. ER03-42-001]

Take notice that on February 6, 2003, Sithe/Independence Power Partners, L.P. (Sithe Independence) submited revised tariff sheets in compliance with the Commission's November 22, 2002 order in Sithe/Independence Power Partners, L.P., 101 FERC § 61,210 (2002). Sithe Independence is filing revisions to its FERC Electric Tariff No. 1 and its Original Service Agreement Nos. 1 and 2 to reflect an effective date of February 1, 2003, the date on which Sithe Independence terminated the Qualifying Facility status of its 1,060 MW electric generating facility in Oswego County, New York. Sithe Independence is also revising its FERC Electric Tariff No. 1 to prohibit both sales to and purchases from its affiliate Portland General Electric Company without the Commission's approval.

Comment Date: February 27, 2003.

10. New York Independent System Operator, Inc.

[Docket No. ER03-303-001]

Take notice that on February 6, 2003, the New York Independent System Operator, Inc. (NYISO), filed corrections to its December 20, 2002 (the December 20 Filing), filing in which the NYISO proposed to amend its demand response programs. The filing amended a definition submitted in the December 20 Filing.

The NYISO has served a copy of this filing to all parties that have executed Service Agreements under the NYISO's Services Tariff, the New York State Public Services Commission and to the electric utility regulatory agencies in New Jersey and Pennsylvania.

Comment Date: February 27, 2003.

11. ConocoPhillips Company

[Docket No. ER03-428-001]

Take notice that on February 10, 2003., ConocoPhillips Company (ConocoPhillips) tendered for filing an Amended Notice of Succession pursuant to Section 35.16 of the Commission's Regulations. As a result of a name change, ConocoPhillips is succeeding by merger to the tariffs and related service agreements of Conoco Inc., effective December 31, 2002.

Comment Date: March 3, 2003.

12. Centennial Power, Inc.

[Docket No. ER03-509-000]

Take notice that on February 7, 2003, Centennial Power, Inc. (Applicant) tendered for filing, under Section 205 of the Federal Power Act, a request for authorization to sell electricity at market-based rates under its proposed market-based tariff.

Comment Date: February 28, 2003.

13. Delta Energy Center, LLC

[Docket No. ER03-510-000]

Take notice that on February 7, 2003., Delta Energy Center, LLC (Delta) filed an unexecuted Must-Run Service Agreement and accompanying schedules (RMR Agreement) between Delta and the California Independent System Operator Corporation (ISO) setting forth the rates, terms and conditions under which Delta proposes to provide reliability must-run services to the ISO. Delta requested expedited consideration of the RMR Agreement by the Commission.

Comment Date: February 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4005 Filed 2-18-03; 8:45 am]

BILLING CODE 6717-01-P